DEPARTMENT OF HOMELAND SECURITY

Transportation Security Administration

New Agency Information Collection Activity Under OMB Review: TSA infoBoards

AGENCY: Transportation Security Administration, DHS.

ACTION: 30-day notice.

SUMMARY: This notice announces that the Transportation Security Administration (TSA) has forwarded the new Information Collection Request (ICR) abstracted below to the Office of Management and Budget (OMB) for review and approval under the Paperwork Reduction Act (PRA). The ICR describes the nature of the information collection and its expected burden. TSA published a Federal Register notice, with a 60-day comment period soliciting comments, of the following collection of information on March 17, 2016, 81 FR 14471. The collection involves the TSA infoBoards, an information-sharing environment designed to serve stakeholders in the transportation security community that is used to disseminate mission-critical information. It provides stakeholders with an online portal that allows authorized users to obtain, post, and exchange information, access common resources, and communicate with similarly situated individuals. Utilizing and inputting information into TSA infoBoards is completely voluntary.

DATES: Send your comments by November 23, 2016. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Christina A. Walsh, TSA PRA Officer, Office of Information Technology (OIT), TSA-11, Transportation Security Administration, 601 South 12th Street, Arlington, VA 20598-6011; telephone (571) 227-2062; email TSAPRA@tsa.dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: TSA infoBoards.

Type of Request: New collection.

OMB Control Number: Not yet assigned.

Form(s): TSA Form 1427.

Affected Public: Individuals with transportation security responsibilities, such as aircraft operators, airport security coordinators, and international transportation security coordinators.

Abstract: TSA infoBoards was developed by TSA as part of its broad responsibilities and authorities under the Aviation and Transportation Security Act (ATSA),¹ and delegated authority from the Secretary of Homeland Security, for “security in all modes of transportation . . . including security responsibilities . . . over modes of transportation that are exercised by the Department of Transportation.” ² TSA infoBoards (formerly WebBoards) is an information-sharing environment designed to serve stakeholders in the transportation security community and is used to disseminate mission-critical information. It provides stakeholders with an online portal which allows authorized users to obtain, post, and exchange information, access common resources, and communicate with similarly situated individuals. This system also integrates other security-related information and communications at the sensitive security information (SSI) level. It is located in a secure online environment and is accessible from the Homeland Security Information Network (HSIN) and TSA (for TSA staff only). Accessing and using TSA infoBoards is completely voluntary; TSA does not require participation.

¹ See Public Law 107-71 (115 Stat. 597, Nov. 19, 2001).

² See 49 U.S.C. 114 (d). The TSA Assistant Secretary's current authorities under ATSA have been delegated to him by the Secretary of Homeland Security. Section 403(2) of the Homeland Security Act (HSA) of 2002, Public Law 107-296 (116 Stat. 2315, Nov. 25, 2002), transferred all functions of TSA, including those of the Secretary of Transportation and the Under Secretary of Transportation of Security related to TSA, to the Secretary of Homeland Security. Pursuant to DHS Delegation Number 7060.2, the Secretary delegated to the Assistant Secretary (then referred to as the Administrator of TSA), subject to the Secretary's guidance and control, the authority vested in the Secretary with respect to TSA, including that in section 403(2) of the HSA.

TSA will collect two types of information through TSA infoBoards: (1) User registration information and (2) user's choice of “communities.” TSA infoBoards users are not required to provide all information requested-however, if users choose to withhold information, they will not receive the benefits of TSA infoBoards associated with that information collection.

1. User registration information. TSA will collect registration information to ensure only those meeting the requirements for access to SSI information under TSA's regulations (49 CFR part 1520) are given access to the TSA infoBoards. Such registration information will include the user's name, professional contact information, agency/company, job title, employer, airport (optional), citizenship, regulatory category, and employment verification contact information.

2. User's Choice of TSA infoBoards Communities. TSA will collect information on the user's choice of TSA infoBoards community(ies). To meet the requirements for access to SSI under TSA's regulations, users are asked to submit their desired requestor type and boards so that TSA may assess the user's qualifications and needs before granting access.

Use of Results

TSA will use this information to assess and improve the capabilities of all transportation modes to prevent, prepare for, mitigate against, respond to, and recover from transportation security incidents. An inability to collect this information will limit TSA's ability to enable modal operators to respond to, and quickly recover after, a transportation security incident. Insufficient awareness, prevention, response, and recovery to a transportation security incident will result in increased vulnerability of the U.S. transportation network.

Number of Respondents: 6,000 users.³

³ Due to the recalculation of numbers since the publication of the 60-day notice, the number of respondents has decreased from 10,000 to 6,000. Accordingly, the burden hours have decreased from 10,000 to 6,000 hours.

Estimated Annual Burden Hours: An estimated 6,000 hours annually.

Dated: October 18, 2016.
Joanna Johnson,
TSA Paperwork Reduction Act Officer, Office of Information Technology.

[FR Doc. 2016-25669 Filed 10-21-16; 8:45 am]

BILLING CODE 9110-05-P